DEPARTMENT OF ENERGY

Federal Energy Regulatory Commission

Combined Notice of Filings #1

Take notice that the Commission received the following electric corporate filings:

Docket Numbers: EC14-116-000.

Applicants: American Electric Power Service Corporation, AEP Ohio Transmission Company, Inc.

Description: Amendment to July 25, 2014 Application Under Section 203 of the Federal Power Act of American Electric Power Service Corporation on behalf of AEP Ohio Transmission Company, Inc.

Filed Date: 8/14/14.

Accession Number: 20140814-5087.

Comments Due: 5 p.m. ET 9/4/14.

Docket Numbers: EC14-117-000.

Applicants: American Electric Power Service Corporation.

Description: Amendment to July 25, 2014 Application Under Section 203 of the Federal Power Act of American Electric Power Service Corporation on behalf of AEP Ohio Transmission Company, Inc.

Filed Date: 8/14/14.

Accession Number: 20140814-5092.

Comments Due: 5 p.m. ET 9/4/14.

Take notice that the Commission received the following electric rate filings:

Docket Numbers: ER13-2233-003.

Applicants: Midcontinent Independent System Operator, Inc.

Description: 2014-08-14 Order 764 Amended Compliance to be effective 6/30/2015.

Filed Date: 8/14/14.

Accession Number: 20140814-5083.

Comments Due: 5 p.m. ET 9/4/14.

Docket Numbers: ER14-2361-000.

Applicants: Sunwave Gas & Power New York, Inc.

Description: Amendment and supplement to July 3, 2014 Sunwave Gas & Power New York, Inc. tariff filing.

Filed Date: 8/7/14.

Accession Number: 20140807-5100.

Comments Due: 5 p.m. ET 8/28/14.

Docket Numbers: ER14-2655-001.

Applicants: Midcontinent Independent System Operator, Inc.

Description: 2014-08-14_SA 2684 Substitute Original GRE-MP Ortman T-T to be effective 8/14/2014.

Filed Date: 8/14/14.

Accession Number: 20140814-5082.

Comments Due: 5 p.m. ET 9/4/14.

Docket Numbers: ER14-2656-000.

Applicants: ISO New England Inc.

Description: ISO New England Inc's 2nd Quarter 2014 Capital Budget Report.

Filed Date: 8/13/14.

Accession Number: 20140813-5161.

Comments Due: 5 p.m. ET 9/3/14.

Docket Numbers: ER14-2657-000.

Applicants: El Paso Electric Company.

Description: Tariff Updates to Reflect Recent Triennial Grant of Authorization to be effective 10/13/2014.

Filed Date: 8/14/14.

Accession Number: 20140814-5058.

Comments Due: 5 p.m. ET 9/4/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 14, 2014.
Nathaniel J. Davis, Sr.,
Deputy Secretary.

[FR Doc. 2014-19858 Filed 8-20-14; 8:45 am]

BILLING CODE 6717-01-P